DEPARTMENT OF THE INTERIOR

Bureau of Land Management

[WY-040-00-1330-DB]

Kemmerer and Rock Springs Field Office Areas, Wyoming, Planning Review Concerning Proposed Closure to Oil and Gas Leasing in Trona Mining Areas to Protect Health and Safety

AGENCY: Bureau of Land Management, Interior.

ACTION: Notice of intent to conduct a planning review and request for public participation concerning closing portions of the trona mining areas to oil and gas leasing for protection of health and safety, with potential to amend the Kemmerer and Green River (Rock Springs) Resource Management Plans (RMPs) to modify mineral management objectives.

SUMMARY: Notice is hereby given in accordance with 43 CFR 1610.2(C) that the Rock Springs and Kemmerer Field Offices of the Bureau of Land Management (BLM) are proposing to close the Special Sodium Drilling Area—A in southwest Wyoming to oil and gas leasing and coincidental development of oil and gas reserves on existing oil and gas leases to provide for the continued health and safety of underground miners. A planning review of existing land-use decisions would be conducted to evaluate how to best manage mineral resource and to provide for the recognized health and safety of underground miners. Any needed changes in existing management or any new management actions to be prescribed for the area will be identified and if necessary, the Kemmerer and Green River RMPs amended.

The Joint Industry Committee (JIC), representing trona, and oil and gas industry groups and interests, has worked for four years addressing issues on the complexities of coincidental development of underground trona and deep oil and gas within the Mechanical Mining Trona Area (MMTA). Technical studies and analysis with safety and economic comparisons show that the mineable trona within the MMTA should be completely extracted before development of deep natural gas resources. The JIC has recommended the following approach:

• Expand the MMTA boundary to include a one-mile lateral safety buffer, known as the Special Sodium Drilling Area-A (SSDA-A). The SSDA-A consists of 218,613 acres of Federal minerals managed by the BLM, 30,959 acres of State of Wyoming-owned mineral estate, and 223,873 acres of privately held minerals.

• Amend the RMPs to close the SSDA-A to oil and gas leasing and development of deep natural gas wells. Drilling of deep natural gas wells would be prohibited until completion of conventional underground trona mining and abandonment of the underground trona mines. Hydrocarbon resources in the MMTA would be conserved for future development.

• Adopt special rules for drilling operations, well completion, production, and abandonment of shallow natural gas wells within the SSDA-A. Shallow gas drilling could be allowed within the SSDA-A on existing oil and gas leases, subject to special rules currently under development.

• Outside of the SSDA-A but within the Known Sodium Leasing Area, allow oil and gas leasing, and drilling of deep natural gas wells utilizing the special rules for drilling operations, well completion, production, and abandonments procedures as adopted by the Wyoming Oil and Gas Conservation Commission (WOGCC) for the entire Special Sodium Drilling Area.

Closure to oil and gas leasing and development of the deep natural gas reserves within the SSDA-A and adoption of these recommendations is problematic due to existing federal and State of Wyoming oil and gas leases within the SSDA-A. These existing leases do not provide limitations on the depth of oil and gas drilling operations. The JIC and BLM have identified several options for addressing this problem:

1. Maintain the current suspension on existing oil and gas leases until conventional underground mining of trona has been completed and miners are no longer working underground.

2. Allow current suspensions to expire and place conditions of approval on applications to drill in order to prevent drilling of deep natural gas wells. Development of shallow natural gas wells may be allowed subject to special rules (once they are adopted by the WOGCC).

3. Existing Federal and State lessees could be given preferential right to trade oil and gas leases within the SSDA-A for other Federal or State leases of comparable value.

4. Purchase existing Federal and State oil and gas leases by one or more of the following:

(A) Give the leaseholder a royalty credit against future oil and gas production on other leases held by the lessee.

(B) Allocate a portion of future sodium royalties to purchase oil and gas leases from the lessee.

(C) Federal budget disbursement.

(D) Private agreements between trona producers and oil and gas lessees.

The BLM is seeking public comment on these options and asking the public for additional options that should be addressed in the environmental analysis for the land use plan amendments.

DATES: Send comments to Ted Murphy, Associate Field Manager for Lands and Minerals, BLM, Rock Springs Field Office, 307-352-0321. Comments are due March 3, 2000 and may be sent via regular mail to BLM, Rock Springs Field Office, 280 Highway 191, Rock Springs, Wyoming 82901, or email rockXspringXwymail@blm.gov. Please refer to “Coincidental Development” in the subject field.

FOR FURTHER INFORMATION CONTACT: Ted Murphy, Associate Field Manager for Lands and Minerals, BLM, Rock Springs Field Office, 307-352-0321. Documents supporting JIC recommendations and BLM options may be viewed at the Rock Springs Field Office, 280 Highway 191 North, Rock Springs, Wyoming (307-352-0256), Kemmerer Field Office, 312 Highway 189 North, Kemmerer, Wyoming (307-828-4500), and the Wyoming State Office, 5353 Yellowstone Road, Cheyenne, Wyoming (307-775-6261).

SUPPLEMENTARY INFORMATION: History has shown that mining, and oil and gas operations can behave unpredictably despite the best efforts in the application of newest technology and strict operating practices. Studies, performed under the direction of the JIC, have proven that coincidental development of trona and oil and gas within the MMTA could have catastrophic consequences. This finding is based on the analysis of current drilling and completion standards used in the Green River Basin and the potential for uncontrolled fluid migration from oil and gas wells into the underground mine(s). The safety and well being of underground miners employed in the trona industry is of paramount importance. Therefore, action must be taken to resolve this issue.

Written comments in response to this notice, including the names and addresses of respondents, will be available for public review at the BLM Rock Springs office during regular business hours (7:45 a.m.-4:30 p.m.), Monday through Friday (except Federal holidays) after the comment period closes and may be published as part of the environmental process. Individual respondents may request confidentiality. If you wish to withhold your name and/or address from public review or from disclosure under the Freedom of Information Act, you must state this prominently at the beginning of your written comment. Such requests will be honored to the extent allowed by law. All submissions from organizations or businesses, and from individuals identifying themselves as representatives or officials of organizations or businesses, will be made available for public inspection in their entirety.

Dated: January 13, 2000.
Alan R. Pierson,
State Director.

[FR Doc. 00-1292 Filed 1-19-00; 8:45 am]

BILLIING CODE 4310-22-P